DEPARTMENT OF LABOR

Office of the Secretary

Submission for OMB Review: Comment Request

March 26, 2010.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Employment and Training Administration (ETA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: New collection (Request for a new OMB Control Number).

Title of Collection: Occupational Code Assignment (OCA).

OMB Control Number: 1205-XXXX (Pending).

Agency Form Number: N/A.

Affected Public: Individuals or households.

Total Estimated Number of Respondents: 4,800.

Total Estimated Annual Burden Hours: 420.

Total Estimated Annual Costs Burden (Operation and Maintenance): $0.

Description: This ICR requests OMB clearance for pilot survey of self-identified Latino Americans as part of the research project The Voice of Latino Workforce Experience. The pilot survey will analyze first-person accounts from Latino workers in Washington, DC, Fort Lauderdale, and Chicago. The goal of this research is to evaluate a questionnaire for eliciting quality data on Latinos' employment and workforce choices. The data collected will inform subsequent research aimed at assisting workforce professionals better understand and serve their Latino customers. For additional information, see related notice published in the Federal Register on November 17, 2009 (74 FR, page 59244).

Agency: Employment and Training Administration.

Type of Review: Revision and Extension of a currently approved collection.

Title of Collection: National Agriculture Workers Survey (NAWS).

OMB Control Number: 1205-0453.

Agency Form Numbers: N/A.

Affected Public: Individuals or households and Private Sector (Farms).

Total Estimated Number of Respondents: 4,008.

Total Estimated Annual Burden Hours: 3,411.

Total Estimated Annual Costs Burden (Operation and Maintenance): $0.

Description: NAWS provides an understanding of the manpower resources available to U.S. agriculture. It is the national source of information on the demographic, occupational health and employment characteristics of hired crop workers. For additional information, see related notice published in the Federal Register on November 30, 2009 (74 FR 62603).

Darrin A. King,
Departmental Clearance Officer.

[FR Doc. 2010-7333 Filed 3-31-10; 8:45 am]

BILLING CODE 4510-FN-P